DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Highly Migratory Species Dealer Reporting Family of Forms.

Form Number(s): None.

OMB Approval Number: 0648-0040.

Type of Request: Regular submission.

Burden Hours: 6,148.

Number of Respondents: 1,751.

Average Hours Per Response: Biweekly reports, 15 minutes (3 minutes for negative reporting); application for nongovernmental validation authorization, 2 hours; daily landing reports, 2 minutes; daily tagging, 1 minute; and statistical documents and re-export certificates, 18 minutes.

Needs and Uses: This information collection consists of a mandatory dealer reporting program for domestic landings and international trade of highly migratory species. The catch and trade monitoring is required under provisions of the Atlantic Tunas Convention Act, Tunas Convention Act, and the Magnuson-Stevens Fishery Conservation and Management Act. Information collected through this program is essential for the United States to meet its reporting obligations to the International Commission for the Conservation of Atlantic Tunas and the Inter-American Tropical Tuna Commission.

Affected Public: Business or other for-profit organizations.

Frequency: Daily, biweekly, on occasion and annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 16, 2007.
Gwellnar Banks,
Management Analyst, Office of the Chief Information Officer.

[FR Doc. E7-9772 Filed 5-21-07; 8:45 am]

BILLING CODE 3510-22-P